ENVIRONMENTAL PROTECTION AGENCY

[FRL-8246-6]

Formal Reopening of the EPA Docket Center Public Reading Room

AGENCY: Environmental Protection Agency (EPA).

ACTION: Notice.

SUMMARY: The EPA Docket Center (EPA/DC) and its Public Reading Room in Washington, DC were damaged by flooding that occurred during the week of June 25, 2006. On November 6, 2006, EPA formally reopened its EPA/DC Public Reading Room in a new location. This notice provides information regarding accessing the newly relocated EPA/DC Public Reading Room.

FOR FURTHER INFORMATION CONTACT: Minh-Hai Tran-Lam, Mail code 2822T, Office of Environmental Information, Office of Information Collection, Environmental Protection Agency, 1200 Pennsylvania Ave., NW., Washington, DC 20460; telephone number: (202) 566-1647; fax number: (202) 566-1639; e-mail address: Tran-Lam.Minh-Hai@epa.gov.

SUPPLEMENTARY INFORMATION: The EPA Docket Center (EPA/DC) houses eight consolidated paper docket facilities and includes a Public Reading Room, offering a variety of tools for members of the public seeking access to hardcopy or electronic public dockets. The EPA/DC Public Reading Room, which was temporarily closed due to flooding, formally reopened on November 6, 2006 on the third floor, room #3334 in the EPA West Building, located at 1301 Constitution Ave., NW., Washington, DC. The EPA/DC Public Reading Room hours of operation will be 8:30 AM to 4:30 PM Eastern Standard Time (EST), Monday through Friday, excluding Federal holidays. EPA visitors are required to show photographic identification, pass through a metal detector, and sign the EPA visitor log. Visitors will be provided an EPA/DC badge that must be visible at all times. Visitor materials will be processed through an X-ray machine.

Please consult the EPA Docket Center Web site at http://www.epa.gov/epahome/dockets.htm for current information on docket operations, locations, and telephone numbers.

Dated: November 15, 2006.
Mark Luttner,
Director, Office of Information Collection, Office of Environmental Information.

[FR Doc. E6-19864 Filed 11-22-06; 8:45 am]

BILLING CODE 6560-50-P